DEPARTMENT OF EDUCATION

[Docket No. ED-2020-SCC-0112]

Agency Information Collection Activities; Submission to the Office of Management and Budget for Review and approval; Comment Request; Evaluation of the Innovative Assessment Demonstration Authority Pilot Program-Preliminary Activities

AGENCY: Institute for Education Sciences (IES), Department of Education (ED).

ACTION: Notice.

SUMMARY: In accordance with the Paperwork Reduction Act of 1995, ED is proposing a new information collection.

DATES: Interested persons are invited to submit comments on or before October 21, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Thomas Wei, 646-428-3892.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the Innovative Assessment Demonstration Authority Pilot Program-Preliminary Activities.

OMB Control Number: 1850-NEW.

Type of Review: A new information collection.

Respondents/Affected Public: State, Local and Tribal Governments.

Total Estimated Number of Annual Responses: 60.

Total Estimated Number of Annual Burden Hours: 120.

Abstract: This study will meet the Congressional mandate to evaluate the Innovative Assessment Demonstration Authority Pilot Program (IADA). The program (Title I, Section 1204 of the Every Student Succeeds Act, or ESSA) allows the U.S. Department of Education to exempt a handful of states from certain testing requirements if they agree to pilot new types of assessments. The study will produce a “Progress Report” and a “Best Practices Report,” as mandated by Congress. The Progress Report will be based on existing documents from pilot states. The subsequent Best Practices Report will add, via surveys, the perspectives of district leaders, principals, and teachers on the development, implementation, and outcomes of IADA assessments. These reports will help the Department appropriately target its technical assistance to tackle the largest barriers to adequate progress in pilot states, and provide a valuable guide for other states that may want to develop a new assessment in the future.

Dated: September 16, 2020.
Stephanie Valentine,
PRA Coordinator, Strategic Collections and Clearance, Governance and Strategy Division, Office of Chief Data Officer, Office of Planning, Evaluation and Policy Development.

[FR Doc. 2020-20798 Filed 9-18-20; 8:45 am]

BILLING CODE 4000-01-P